SMALL BUSINESS ADMINISTRATION

[Declaration of Disaster #3320, Amdt. 1]

State of Washington

In accordance with a notice received from the Federal Emergency Management Agency, dated March 6, 2001, the above-numbered Declaration is hereby amended to include Grays Harbor and Snohomish counties in the State of Washington as disaster areas due to damages caused by the earthquake on February 28, 2001.

In addition, applications for economic injury loans from small businesses located in Skagit County may be filed until the specified date at the previously designated location. Any counties contiguous to the above named primary counties and not listed here have been previously declared.

All other information remains the same, i.e., the deadline for filing applications for physical damage is April 30, 2001 and for economic injury the deadline is November 30, 2001.

(Catalog of Federal Domestic Assistance Program Nos. 59002 and 59008.)
Dated: March 8, 2001.
Herbert L. Mitchell,
Associate Administrator for Disaster Assistance.

[FR Doc. 01-6305 Filed 3-13-01; 8:45 am]

BILLING CODE 8025-01-P